DEPARTMENT OF STATE

Delegation of Authority No. 540; Delegation of Authority International Broadcasting Advisory Board

By virtue of the authority vested in the Secretary of State, including section 1 of the Basic Authorities Act (22 U.S.C. 2651a), and the United States International Broadcasting Act of 1994 (22 U.S.C. 6201 et seq.) (the Act), and to the extent authorized by law, I hereby delegate to the Under Secretary for Public Diplomacy and Public Affairs, the functions and authorities of the Secretary of State as a member of the International Broadcasting Advisory Board pursuant to 22 U.S.C. 6205.

The Secretary of State, Deputy Secretary of State, or the Deputy Secretary of State for Management and Resources may at any time exercise any function or authority delegated herein.

Any reference in this delegation of authority to any act shall be deemed to be a reference to such act as amended from time to time. The reference in this delegation to the International Broadcasting Advisory Board is deemed to be reference to any successor entity established by the Act.

Nothing herein shall be construed to rescind or otherwise modify any delegation of authority currently in effect.

This delegation shall be published in the Federal Register.

Dated: June 8, 2023.
Antony J. Blinken,
Secretary of State, Department of State.

[FR Doc. 2023-13704 Filed 6-27-23; 8:45 am]

BILLING CODE 4710-10-P